ENVIRONMENTAL PROTECTION AGENCY

[EPA-HQ-OECA-2020-0204; FRL-10018-83-OMS]

Information Collection Request Submitted to OMB for Review and Approval; Comment Request; Emission Guidelines and Compliance Times for Municipal Solid Waste Landfills (Renewal)

AGENCY: Environmental Protection Agency (EPA).

ACTION: Notice.

SUMMARY: The Environmental Protection Agency has submitted an information collection request (ICR), Emission Guidelines and Compliance Times for Municipal Solid Waste Landfills (EPA ICR Number 2522.03, OMB Control Number 2060-0720), to the Office of Management and Budget (OMB) for review and approval in accordance with the Paperwork Reduction Act. This is a proposed extension of the ICR, which is currently approved through February 28, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 10, 2021.

ADDRESSES: Submit your comments, referencing Docket ID Number EPA-HQ-OECA-2020-0204, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of municipal solid waste landfills are required to comply with reporting and record keeping requirements for the General Provisions (40 CFR part 60, subpart A) and the applicable standards in 40 CFR part 60 subpart Cf. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Existing municipal solid waste (MSW) landfills that have accepted waste since November 8, 1987 and commenced either construction, reconstruction, or modification on or before July 17, 2014.

Respondent's obligation to respond: Mandatory (40 CFR part 60 subpart Cf).

Estimated number of respondents: 1,912 (total).

Frequency of response: Initially, annually.

Total estimated burden: 634,000 hours (per year) for both privately-owned and publicly-owned municipal solid waste landfills, with an additional 2,100 hours for State and local agencies administering this rule. Burden is defined at 5 CFR 1320.3(b).

Total estimated cost: $45,600,000 (per year) for both privately-owned and publicly-owned municipal solid waste landfills, which includes $2,760,000 in annualized capital/startup and/or operation & maintenance costs. This overall sum also includes $135,000 (per year) for State and local agencies-controlled landfills.

Changes in the Estimates: There is an adjustment decrease in the total estimated burden as currently identified in the OMB Inventory of Approved Burdens. The decrease in burden is due to changes in several areas. The number of respondents has been adjusted to reflects the lower expected number of landfills controlling between years 2022 through 2024 based on projected emissions, as well as the number of landfills subject between years 2022 and 2024, based on waste disposal quantities which increase over time at active landfills, and assuming that in these years landfills will be controlling under the more stringent 34 Mg/yr requirements. The estimates also subtract out landfills expected to modify during this time period and become subject to the MSW landfill NSPS instead (OMB Control Number 2060-0697). This ICR therefore reflects an increase in the total number of respondents subject to the rule, but a smaller number of controlling landfills subject to monitoring and testing requirements.

This ICR also reflects that some landfills subject to EPA approved state plans implementing Subpart Cf have completed their initial implementation activities to comply with the rule. Therefore, capital/startup costs (new equipment and testing) have decreased. O&M costs have also decreased from the previous ICR due to a decrease in the number of landfills required to control emissions and perform monitoring.

The labor burden has also decreased in this ICR as most landfills have completed their initial compliance requirements, such as testing, submitting design capacity reports, submitting collection and control system design plans. Additionally, this ICR adjusts the burden to remove requirements for certain sources (e.g., legacy controllers) that would have submitted certain one-time reports under other MSW Landfill regulations, and are not required to resubmit reports under Subpart Cf. This ICR also adjusts the burden for landfills to familiarize themselves with the new rule requirements to reflect the initial burden for reviewing the Federal plan or State plans, as they are implemented, and a lower recurring burden for re-familiarizing with the rule requirements after the first year.

This ICR also adjusts the number of respondents subject to the requirements of subpart Cf which are implemented under State plans and a Federal plan to incorporate the burden associated with the Federal plan. The Federal plan is currently pending but expected to be finalized at 40 CFR part 62, subpart OOO. As of August 18, 2020, EPA data indicates that 8 State and local agencies enforce the State plans and two other state agencies are expected to have their plans effective by 2022. The remainder of these landfills will be covered by a federal plan once it becomes effective.

Courtney Kerwin,
Director, Regulatory Support Division.

[FR Doc. 2021-00244 Filed 1-8-21; 8:45 am]

BILLING CODE 6560-50-P